DEPARTMENT OF DEFENSE

Department of the Navy

[USN-2008-0006]

Privacy Act of 1974; System of Records

AGENCY: Department of the Navy, DoD.

ACTION: Notice to amend a system of records.

SUMMARY: The Department of the Navy is amending a system of records notice in its existing inventory of record systems subject to the Privacy Act of 1974, (5 U.S.C. 552a), as amended.

DATES: This proposed action will be effective without further notice on March 20, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 12, 2008.
L.M. Bynum,
Alternate OSD Federal Register Liaison Officer, Department of Defense.

NM08370-l

System name:

Weapons Registration (June 14, 2006, 71 FR 34324).

Changes:

* * * * *

System location:

At end of first para delete http://neds.daps.dla.mil/sndl.htm and replace with http://doni.daps.dla.mil/sndl.aspx.

Categories of individuals covered by the system:

At end of entry add: “All individuals authorized access to individual armories.”

* * * * *

Purpose(s):

Delete entry and replace with “To assure proper control of weapons on installations; to monitor and control purchase and disposition of weapons/accessories; and provide record of individuals authorized access to armory spaces.”

* * * * *

System manager(s) and address:

At end of entry delete http://neds.daps.dla.mil/sndl.htm and replace with http://doni.daps.dla.mil/sndl.aspx.

Notification procedure:

At end of first para delete http://neds.daps.dla.mil/sndl.htm and replace with http://doni.daps.dla.mil/sndl.aspx.

Record access procedures:

At end of first para delete http://neds.daps.dla.mil/sndl.htm and replace with http://doni.daps.dla.mil/sndl.aspx.

* * * * *

NM08370-1

System name:

Weapons Registration.

System location:

Organizational elements of the Department of the Navy. Official mailing addresses are published in the Standard Navy Distribution List that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Categories of individuals covered by the system:

Individuals registering firearms or other weapons with station security offices and/or Provost Marshal; all individuals who purchase a firearm or weapon at authorized exchange activities; and/or individuals who reside in government quarters who possess privately-owned firearms; all individuals authorized access to individual armories.

Categories of records in the system:

Individual's name, Social Security Number (SSN), rank, weapon registration and permit records, notification to commanding officers of failure to register firearm purchased at authorized exchanges, exchange notification of firearm purchase, physical location of subject weapon, weapon description, and such other identifiable items.

Authority for maintenance of the system:

10 U.S.C. 5013, Secretary of the Navy; 10 U.S.C. 5041, Headquarters, Marine Corps; and E.O. 9397 (SSN).

Purpose(s):

To assure proper control of weapons on installations; to monitor and control purchase and disposition of weapons/accessories; and provide record of individuals authorized access to armory spaces.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' that appear at the beginning of the Navy's compilation of systems of records notices apply to this system.

Policies and practices for storing, retrieving, accessing, retaining, and disposing of records in the system:

Storage:

Paper records in file folders and electronic storage media.

Retrievability:

Individual's name, Social Security Number (SSN), case number, and/or organization name.

Safeguards:

Password controlled system, file, and element access based on predefined need-to-know. Physical access to terminals, terminal rooms, buildings, and activities' grounds are controlled by locked terminals and rooms, guards, personnel screening, and visitor registers.

Retention and disposal:

Records destroyed when individual leaves command.

System manager(s) and address:

Organizational elements of the Department of the Navy. Official mailing addresses are published in the Standard Navy Distribution List that is available at http://doni.daps.dla.mil/sndl.aspx.

Notification procedure:

Individuals seeking to determine whether information about themselves is contained in this system should address written inquiries to the Commanding officer of the activity in question. Official mailing addresses are published in the Standard Navy Distribution List that is available at http://doni.daps.dla.mil/sndl.aspx.

Written request must contain name and Social Security Number (SSN) and signed.

Record access procedures:

Individuals seeking access to information about themselves contained in this system should address written inquiries to the Commanding officer of the activity in question. Official mailing addresses are published in the Standard Navy Distribution List that is available at http://doni.daps.dla.mil/sndl.aspx.

Written request must contain name and Social Security Number (SSN) and signed.

Contesting record procedures:

The Navy's rules for accessing records, and for contesting contents and appealing initial agency determinations are published in Secretary of the Navy Instruction 5211.5; 32 CFR part 701; or may be obtained from the system manager.

Record source categories:

Individual concerned, other records of activity, investigators, witnesses, and correspondents.

Exemptions claimed for the system:

None.

[FR Doc. E8-3020 Filed 2-15-08; 8:45 am]

BILLING CODE 5001-06-P